DEPARTMENT OF COMMERCE

National Oceanic and Atmospheric Administration

Agency Information Collection Activities; Submission to the Office of Management and Budget (OMB) for Review and Approval; Comment Request; Bay Watershed Education and Training Program National Evaluation System

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before April 11, 2022.

ADDRESSES: Interested persons are invited to submit written comments to Adrienne Thomas, NOAA PRA Officer, at NOAA.PRA@noaa.gov. Please reference OMB Control Number 0648-0658 in the subject line of your comments. Do not submit Confidential Business Information or otherwise sensitive or protected information.

FOR FURTHER INFORMATION CONTACT: Requests for additional information or specific questions related to collection activities should be directed to Bronwen Rice, B-WET National Coordinator, NOAA Office of Education, 1401 Constitution Ave. NW, #6863, Washington, DC 20230, 202-604-1388, and Bronwen.Rice@noaa.gov.

SUPPLEMENTARY INFORMATION:

I. Abstract

This is a request for an extension of an existing information collection.

The National Oceanic and Atmospheric Administration's (NOAA) Office of Education is sponsoring data collection efforts on its Bay Watershed Education and Training (B-WET) program. The NOAA B-WET program is authorized under 33 U.S.C. 893a(a), the America COMPETES Act. The Administrator of the National Oceanic and Atmospheric Administration is authorized to conduct, develop, support, promote, and coordinate formal and informal educational activities at all levels to enhance public awareness and understanding of ocean, coastal, Great Lakes, and atmospheric science and stewardship by the general public and other coastal stakeholders, including underrepresented groups in ocean and atmospheric science and policy careers. B-WET advances NOAA's mission by awarding education grants that foster an environmentally literate citizenry who have the knowledge, attitudes, and skills needed to protect watersheds and related ocean, coastal, and Great Lakes ecosystems. B-WET currently funds projects in seven regions (California, Chesapeake Bay, Great Lakes, Gulf of Mexico, Hawaii, New England, and the Pacific Northwest).

To ensure that educational activities funded by B-WET are of the highest quality, and maximize federal resources, B-WET has created an across-region, internal evaluation system to provide ongoing monitoring of program implementation and to identify opportunities for improved program outcomes. The evaluation system is maintained by B-WET staff with occasional assistance from an outside contractor. The evaluation system collects information from B-WET program-funded project participants.

B-WET awardees of grants or cooperative agreements, and the awardees' teachers who attend professional development programs provided by the awardees, are asked to voluntarily complete online survey forms to provide data for the evaluation system. Information collected from awardees includes program elements such as program duration, format, audience, location, support and/or materials offered, and topics covered. Information collected from teacher professional development participants includes teaching methodologies, program satisfaction, program coverage, suggestions for improvement, and teaching confidence. Information collected from teachers at the end of the school year following their participation in a professional development program includes time spent teaching topics covered in the professional development program, types of activities used with their students, teachers' perceptions of student learning, and teaching practices utilized. One individual from each awardee organization is asked to complete a survey once per year of the award, and the teacher participants are asked to complete one survey at the end of their professional development program and another survey at the end of the following school year. Responses to the survey questions are aggregated and analyzed as part of ongoing evaluation efforts.

Based on a review of annual evaluation system results, B-WET has made program improvements by adjusting its Federal Notice of Funding Opportunities and program guidelines. On-going data collection enables NOAA to monitor program implementation and outcomes on a regular basis and supports adaptive management of the program.

II. Method of Collection

Respondents submit their information electronically using a survey collection platform.

III. Data

OMB Control Number: 0648-0658.

Form Number(s): None.

Type of Review: Regular submission, extension of a current information collection.

Affected Public: Business and other for-profit organizations; not-for-profit institutions; state, local or tribal government; individuals or households.

Estimated Number of Respondents: Given the funding levels of the past three fiscal years, NOAA B-WET estimates that approximately 165 awardees and 3,374 teachers will be invited to respond each year.

Estimated Time per Response: Awardee-respondents will complete an online survey in 60 minutes and teacher-respondents will complete two online surveys in 30 minutes each.

Estimated Total Annual Burden Hours: 3,539.

Estimated Total Annual Cost to Public: $0 in recordkeeping/reporting costs.

Respondent's Obligation: Voluntary.

Legal Authority: 33 U.S.C. 893a(a), the America COMPETES Act.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2022-02603 Filed 2-7-22; 8:45 am]

BILLING CODE 3510-12-P